DEPARTMENT OF ENERGY

Federal Energy Regulatory Commission

Combined Notice of Filings #1

Take notice that the Commission received the following electric corporate filings:

Docket Numbers: EC17-3-000.

Applicants: 8point3 Energy Partners LP, Desert Stateline LLC.

Description: Application for Authorization Under Section 203 of the Federal Power Act of 8point3 Energy Partners LP and Desert Stateline LLC, Waivers and Confidential Treatment.

Filed Date: 10/5/16.

Accession Number: 20161005-5153.

Comments Due: 5 p.m. ET 10/26/16.

Docket Numbers: EC17-4-000.

Applicants: Luning Energy LLC, Liberty Utilities (CalPeco Electric) LLC.

Description: Application of Luning Energy LLC, et al. for Authorization Under Section 203 of the Federal Power Act and Request for Waivers and Expedited Action.

Filed Date: 10/6/16.

Accession Number: 20161006-5067.

Comments Due: 5 p.m. ET 10/27/16.

Take notice that the Commission received the following electric rate filings:

Docket Numbers: ER10-2290-005.

Applicants: Avista Corporation.

Description: Second Amendment to June 30, 2016 Triennial Market Power Update for the Northwest Region of Avista Corporation.

Filed Date: 9/30/16.

Accession Number: 20160930-5385.

Comments Due: 5 p.m. ET 10/21/16.

Docket Numbers: ER16-893-001.

Applicants: 62SK 8ME LLC.

Description: Notice of Change in Status of 62SK 8ME LLC.

Filed Date: 10/5/16.

Accession Number: 20161005-5157.

Comments Due: 5 p.m. ET 10/26/16.

Docket Numbers: ER17-31-000.

Applicants: Southwest Power Pool, Inc.

Description: § 205(d) Rate Filing: Attachment W Revisions for East River Electric Power Cooperative, Inc. to be effective 12/5/2016.

Filed Date: 10/6/16.

Accession Number: 20161006-5029.

Comments Due: 5 p.m. ET 10/27/16.

Docket Numbers: ER17-32-000.

Applicants: Public Service Company of Colorado.

Description: § 205(d) Rate Filing: PSCo-TSGT—JM Shafer-E&P-Mtrg Mod-459-0.0.0 to be effective 10/5/2016.

Filed Date: 10/6/16.

Accession Number: 20161006-5030.

Comments Due: 5 p.m. ET 10/27/16.

Docket Numbers: ER17-33-000.

Applicants: Breadbasket LLC.

Description: Tariff Cancellation: Cancellation of MBR Tariff to be effective 10/6/2016.

Filed Date: 10/6/16.

Accession Number: 20161006-5055.

Comments Due: 5 p.m. ET 10/27/16.

Docket Numbers: ER17-34-000.

Applicants: Roundtop Energy LLC.

Description: Compliance filing: Compliance Filing of Revised Rate Schedule to be effective 4/1/2016.

Filed Date: 10/6/16.

Accession Number: 20161006-5070.

Comments Due: 5 p.m. ET 10/27/16.

Docket Numbers: ER17-35-000.

Applicants: Beaver Dam Energy LLC.

Description: Compliance filing: Compliance Filing of Revised Rate Schedule to be effective 6/1/2016.

Filed Date: 10/6/16.

Accession Number: 20161006-5071.

Comments Due: 5 p.m. ET 10/27/16.

Docket Numbers: ER17-36-000.

Applicants: Florida Power & Light Company.

Description: § 205(d) Rate Filing: FPL Revised Delivery Point A.17 for Transmission Service Agreement No. 162 to be effective 7/1/2016.

Filed Date: 10/6/16.

Accession Number: 20161006-5078.

Comments Due: 5 p.m. ET 10/27/16.

Docket Numbers: ER17-37-000.

Applicants: PJM Interconnection, L.L.C.

Description: Notice of cancellation of Interconnection Service Agreements Nos. 1716 and 1717 of PJM Interconnection, L.L.C.

Filed Date: 10/6/16.

Accession Number: 20161006-5084.

Comments Due: 5 p.m. ET 10/27/16.

Docket Numbers: ER17-38-000.

Applicants: Puget Sound Energy, Inc.

Description: Compliance filing: Order Nos. 827 and 828 Compliance Filing to be effective 10/14/2016.

Filed Date: 10/6/16.

Accession Number: 20161006-5104.

Comments Due: 5 p.m. ET 10/27/16.

Take notice that the Commission received the following electric securities filings:

Docket Numbers: ES17-2-000.

Applicants: Oklahoma Gas and Electric Company.

Description: Application for Authorization of Issuance of Short-Term Debt Securities Under Section 204 of the Federal Power Act of Oklahoma Gas and Electric Company.

Filed Date: 10/5/16.

Accession Number: 20161005-5146.

Comments Due: 5 p.m. ET 10/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2016.
Nathaniel J. Davis, Sr.,
Deputy Secretary.

[FR Doc. 2016-25150 Filed 10-17-16; 8:45 am]

BILLING CODE 6717-01-P